DEPARTMENT OF DEFENSE

Department of the Navy

Notice of Intent To Grant Exclusive Patent License; Tessarae Inc.

AGENCY: Department of the Navy, DoD.

ACTION: Notice.

SUMMARY: The Department of the Navy hereby gives notice of its intent to grant to Tessarae Inc., a revocable, nonassignable, exclusive license to practice in the field of use defined as design process, systems and applications utilizing high-density resequencing microarrays (greater than 100,000 features per array and less than 500 square micron feature size), and manufacturable under good practice standards in batch quantities greater than 1,000 arrays (such as CustomSeq(®) resequencing microarrays fabricated by Affymetrix, Inc.), for screening, diagnosis where approved by the appropriate local government health authority, and/or surveillance of pathogen induced disease in the United States and certain foreign countries, the Government-owned inventions described in Navy Case No. 98,325, entitled “Design and Selection of Genetic Targets for Sequence Resolved Organism Detection and Identification” and any continuations, divisionals or re-issues thereof.

DATES: Anyone wishing to object to the grant of this license must file written objections along with supporting evidence, if any, not later than September 13, 2007.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone: 202-767-3083. Due to U.S. Postal delays, please fax 202-404-7920, e-mail: techtran@utopia.nrl.navy.mil or use courier delivery to expedite response.

Authority: 35 U.S.C. 207, 37 CFR Part 404.

Dated: August 22, 2007.
T. M. Cruz,
Lieutenant, Judge Advocate General's Corps, U.S. Navy, Federal Register Liaison Officer.

[FR Doc. E7-17126 Filed 8-28-07; 8:45 am]

BILLING CODE 3810-FF-P